NATIONAL COMMUNICATIONS SYSTEM

Request for Information on Telecommunications Emergency Alerting Capabilities

AGENCY: National Communications System (NCS).

ACTION: Request for information.

SUMMARY: The National Communications System (NCS) is seeking information on potential emergency notification capabilities; before, during, and after an emergency; via: (1) The Public Telephone System. Notified telephone numbers might be all lines in a geographic area or a pre-loaded list of telephone numbers; (2) Paging Systems. These might be digital text and/or voice messaging systems. Notified pagers might be all pagers in a geographic area or a pre-loaded list of pager numbers; (3) Cellular Telephones. These might be notified by digital text messaging and/or voice. Notified cellular telephones might be all cellular telephones in a geographic area or a pre-loaded list of cellular telephone numbers.

DATES: Submissions should be made within 21 days of the date of this notice.

ADDRESSES: National Communications System, Attn: N2, 701 South Court House Road, Arlington, VA 22204-2198, barrd@ncs.gov.

FOR FURTHER INFORMATION CONTACT: Mr. Dale Barr, Jr., National Communications System, Attn: N2, 701 South Court House Road, Arlington, VA 22204-2198, telephone (703) 607-6157, fax (703) 607-4830, e-mail address, barrd@ncs.gov.

SUPPLEMENTARY INFORMATION: The requested information is for planning purposes and does not constitute a commitment, implied or otherwise, that a procurement action will be isued. No entitlement to payment of direct or indirect costs or charges by the Government will arise as a result of the submission of information. The Government shall not be liable for or suffer any consequential damages for any improperly identified proprietary information. Proprietary information will be safeguarded in accordance with the applicable Government regulations. If there is a GSA or other contract vehicle already available for the technology being proposed, please include this information in the response.

Peter M. Fonash,
Federal Register Certifying Officer, National Communications System.

[FR Doc. 01-27555 Filed 11-1-01; 8:45 am]

BILLING CODE 5001-08-M